DEPARTMENT OF TRANSPORTATION

Pipeline and Hazardous Materials Safety Administration

[Docket No. PHMSA-2014-0085; Notice 14-9]

Hazardous Materials: Notice of Availability of Draft Environmental Assessment and Request for Public Comment for a Special Permit Relating to the Transport of Precursor Chemicals From Syria in Port Arthur, Texas

AGENCY: Pipeline and Hazardous Materials Safety Administration, DOT.

ACTION: Notice of Availability and Request for Public Comment.

SUMMARY: This notice informs the public of the availability of a draft environmental assessment in support of a special permit application that would allow offloading and the transport by highway of hazardous materials in non-DOT Specification Packaging in Port Arthur, Texas. PHMSA requests public comment on the draft environmental assessment.

DATES: PHMSA will accept comments on the draft environmental assessment until close of business June 23, 2014.

ADDRESSES: Comments may be submitted in the following ways:

Federal eRulemaking Portal: www.regulations.gov. Follow instructions for submitting comments.

Mail: Docket Management System: U.S. Department of Transportation, Docket Operations, M-30, West Building Ground Floor, Room W12-140, 1200 New Jersey Avenue SE., Washington, DC 20590. If you submit your comments by mail, please submit two copies. To receive confirmation that PHMSA has received your comments, please include a self-addressed stamped postcard.

Hand Delivery: Docket Management System: U.S. Department of Transportation, Docket Operations, M-30, West Building Ground Floor, Room W12-140, 1200 New Jersey Avenue SE., Washington, DC 20590 between 9 a.m. and 5 p.m., Monday through Friday, except Federal holidays.

Fax: Docket Management System: U.S. Department of Transportation, Docket Operations, 202-493-2251.

Instructions: Include the agency name and docket number PHMSA-2014-0085 (Notice 14-9) at the beginning of your comment. Please note that all comments received will be posted without change to www.regulations.gov, including any personal information provided.

Privacy Act: Anyone is able to search the electronic form of any written communications and comments received into any of our dockets by the name of the individual submitting the document (or signing the document, if submitted on behalf of an association, business, labor union, etc.). You may review DOT's complete Privacy Act Statement in the Federal Register, 65 FR 19477, April 11, 2000, or you may visit www.regulations.gov.

Docket: For access to the docket to read the draft environmental assessment or comments received, go to www.regulations.gov or DOT's Docket Operations Office (see hand delivery address above).

FOR FURTHER INFORMATION CONTACT: Alice Koethe, Attorney, Pipeline and Hazardous Materials Safety Administration, Office of the Chief Counsel, 1200 New Jersey Avenue SE., Washington, DC 20590; 202-366-7207; alice.koethe@dot.gov.

SUPPLEMENTARY INFORMATION: In accordance with the National Environmental Policy Act (NEPA), 42 U.S.C. 4321-4347, the Council on Environmental Quality (CEQ) NEPA implementing regulations, 40 CFR parts 1500-1508, and DOT Order 5610.1C, Procedures for Considering Environmental Impacts, the Pipeline and Hazardous Materials Safety Administration (PHMSA) has prepared a draft environmental assessment (Draft EA) for an application for a Special Permit/Requested Relief of Certain Packaging Requirements for Highway Motor Vehicles relating to the transport of precursor chemicals from Syria in Port Arthur, Texas. PHMSA serves as the lead agency for the Draft EA, and the U.S. Coast Guard, U.S. Department of Commerce, and the U.S. Department of the Treasury serve as cooperating agencies.

The Organisation for the Prohibition of Chemical Weapons (OPCW) and the Department of State have informed PHMSA that an operation is underway to eliminate Syria's chemical weapons program, including the removal of 19 different chemicals from Syria used as precursors to chemical weapons. Five of these chemicals are bound for Port Arthur, Texas, where they will be destroyed and disposed (the “operation”). These five chemicals have been/are to be transferred to a Norwegian sovereign immune cargo vessel, which is ultimately bound for Port Arthur, Texas. There are no explosives or munitions associated with the chemicals, and these chemicals have not been assembled into weapons or mixed for weapons purposes. OPCW informed PHMSA that these five chemicals are being shipped in 16 20-ft ISO maritime shipping containers in various packagings. However, due to incomplete information from international officials and questions about loading, PHMSA cannot confirm that the UN packagings containing the chemicals are compliant with the Hazardous Materials Regulations, 49 CFR Parts 171-180 (HMR).

Veolia is the private company that the OPCW selected for the destruction and disposal of the chemicals. Upon arrival at the Port of Port Arthur, Veolia's subcontractor, Bed Rock Inc, d/b/a/Tri State Motor Transit Company (Tri State), will transport the chemicals 15 miles overland from the Port of Port Arthur to Veolia's approved disposal site in Port Arthur, Texas. Due to the lack of compliance assurance with the HMR, Veolia has requested a special permit (SP) from PHMSA.

PHMSA has prepared the Draft EA analyzing the environmental impacts of four alternatives: (1) The no action alternative, where PHMSA does not issue a SP because the chemicals do not enter and are not destroyed in the United States; (2) PHMSA does not issue a SP and exercises agency discretion to forgo enforcement of the HMR for the 15-mile overland transport; (3) PHMSA issues a SP, inspects the drums for HMR compliance prior to the arrival in Port Arthur, and requires any non-compliant or unsafe drums to be placed into salvage drums; and (4) PHMSA issues a SP for relief from the HMR.

The Draft EA is available online at www.regulations.gov under docket number PHMSA-2014-0085. The Draft EA is also available on PHMSA's Web site at http://phmsa.dot.gov/hazmat/port-arthur. The Draft EA is also available for inspection locally at the following public library: Port Arthur Public Library, 4615 9th Avenue (at Highway 73), Port Arthur, TX 77642, 409-985-8838. The anticipated delivery date to Port Arthur necessitates an abbreviated comment period of 10 days.

Issued in Washington, DC, on June 6, 2014.
Magdy El-Sibaie,
Associate Administrator for Hazardous Materials Safety, Pipeline and Hazardous Materials Safety Administration.

[FR Doc. 2014-13685 Filed 6-11-14; 8:45 am]

BILLING CODE 4910-60-P